DEPARTMENT OF HEALTH AND HUMAN SERVICES

Centers for Disease Control and Prevention

[60Day-06-05CY]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-4766 and send comments to Seleda Perryman, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Survey of Illness and Injury Among Backcountry Users in Yellowstone National Park—New—Centers for Disease Control and Prevention (CDC), National Center for Infectious Diseases (NCID).

There are limited data on the risk factors for illness and injury among persons who travel into backcountry areas of the United States. The backcountry encompasses primitive or wilderness areas that lack most facilities and services and that are reached primarily by hiking, boating, or horseback. In general, backcountry users must bring in their own supplies (such as shelter, food, water, or water treatment supplies). As many as 68% to 82% of long-distance hikers and backpackers have reported experiencing illnesses or injuries during their time in the backcountry. For example, 4% to 56% have reported gastrointestinal illnesses and 41% to 62% have reported musculoskeletal injuries.

Such a high burden of illness and injury has significant medical and economic implications given the increasing popularity of backcountry use. In 1994-95, almost 8% of Americans age 16 years and older (about 15 million persons) went backpacking in the previous 12 months, which involved camping for one or more nights along a trail and carrying food, shelter, and utensils with them. In the same period of time, about 14% (or 28 million persons) camped in primitive settings that usually lacked restrooms, hookups, and most facilities and services. In fact, camping in backcountry areas increased by about 72% from 1982-83 to 1994-95. While people can travel in the backcountry in many locations and on both private and public lands, many travelers hike, backpack, and camp in the backcountry in national parks. In 2003, there were over 266 million recreational visits to national parks with over 1.8 million overnight stays in the backcountry. Yellowstone National Park alone had almost 19,690 persons visit the backcountry in 2003, accounting for over 46,000 overnight stays.

Because little is known about health outcomes for visitors who use the backcountry areas of our nation's parks, advice to park managers and the public is currently general in nature, based only on standard disease prevention principles. Furthermore, some outdoor use groups have recently questioned some of this standard advice, such as the universal need for careful filtration and disinfection of backcountry drinking water. This study will investigate behavioral and environmental risk factors that may be associated with illness and injury among persons who require park permits to travel into backcountry areas in Yellowstone National Park during the backcountry season from May 1-Oct. 31, 2006. The data collected will be used to provide an estimate of the burden of illness and injury among backcountry users and will also provide information about a variety of risk factors for illness and injury in the backcountry, including the risks associated with drinking untreated water from lakes and streams. With this information, the National Park Service (NPS) will be able to address many of the questions raised by outdoor users and public health officials, and improve and strengthen evidence-based NPS guidelines for backcountry health and sanitation practices. To gather this information, consent to contact after the conclusion of the backcountry trip will be obtained from an estimated 7,000 backcountry users 18 years of age or older when they present to the Yellowstone National Park's permit offices prior to entering the backcountry. A questionnaire (in either Internet-based or paper-based format) will then be offered to an estimated 5,600 backcountry users who consent to be contacted. Participants will be asked about their health (before, during and after backcountry travel), water consumption, water preparation habits, food consumption, food preparation habits, sanitation practices, recreational water use, animal exposure, and demographics.

This study is the beginning of what will be an ongoing effort to improve the scientific basis of NPS recommendations and policies related to protecting human health in the backcountry. This effort seeks to begin to identify disease transmission pathways and assess disease and injury risks associated with specific activities, choices, and behaviors of backcountry visitors, such as water purification, sanitation practices, and hygiene. Thoroughly understanding transmission pathways and the interactions of agent, environment, and host will enable the NPS to effectively and efficiently improve visitor protection efforts.

There will be no cost to or remuneration of respondents other than their time. Their participation is voluntary and there will be no penalty for non-participation.

Estimate of Annualized Burden Table

Respondents | Form name | Number of respondents | Number responses per respondent | Hrs/response (in hours) | Total response burden hours
Backcountry Users of Yellowstone Park | Consent to Further Contact | 7000 | 1 | 2/60 | 233
| Web-Based Questionnaire | 5600 | 1 | 15/60 | 1400
| Total |  |  |  | 1633

Dated: October 21, 2005.
Betsey Dunaway,
Acting Reports Clearance Officer, Centers for Disease Control and Prevention.

[FR Doc. 05-21540 Filed 10-27-05; 8:45 am]

BILLING CODE 4163-18-P 1